DEPARTMENT OF HOMELAND SECURITY

Federal Emergency Management Agency

[Docket ID FEMA-2007-0008]

National Advisory Council

AGENCY: Federal Emergency Management Agency, DHS.

ACTION: Committee Management; Notice of Federal Advisory Committee Meeting.

SUMMARY: The National Advisory Council will meet by teleconference on Monday, November 19, 2012. The meeting will be open to the public.

DATES: The National Advisory Council will meet Monday, November 19, 2012, from 1:00 p.m. to 3:00 p.m. EST. Please note that the teleconference may close early if the committee has completed its business.

ADDRESSES: The meeting will be held by teleconference. Members of the public who wish to obtain the listen-only call-in number, access code, and other information for the public teleconference, please contact the Office of the National Advisory Council.

For information on services for individuals with disabilities or to request special assistance on the call, contact the Office of the National Advisory Council as soon as possible. See contact information under FOR FURTHER INFORMATION CONTACT section below.

To facilitate public participation, members of the public are invited to comment on the issues to be considered by the committee which are available on the FEMA Web site at http://www.fema.gov/national-exercise-program. See the additional information provided in the SUPPLEMENTARY INFORMATION section. Written comments must be submitted in writing no later than November 14, 2012 and must be identified by Docket ID FEMA-2007-0008 and may be submitted by one of the following methods:

• Federal eRulemaking Portal: http://www.regulations.gov. Follow the instructions for submitting comments.

• Mail/Hand Deliver/Courier: Regulatory Affairs Division, Office of Chief Counsel, FEMA, 500 C Street SW., Room 840, Washington, DC 20472-3100.

Instructions: All submissions received must include the words “Federal Emergency Management Agency” and the Docket ID FEMA-2007-0008 for this action. Comments received will be posted without alteration at http://www.regulations.gov, including any personal information provided.

Docket: For access to the docket to read background documents or comments received by the National Advisory Council, go to http://www.regulations.gov.

FOR FURTHER INFORMATION CONTACT: Alexandra Woodruff, Alternate Designated Federal Officer, Office of the National Advisory Council, Federal Emergency Management Agency (Room 825), 500 C Street SW., Washington, DC 20472-3100, telephone (202) 212-4349, fax (540) 504-2331, and email FEMA-NAC@fema.dhs.gov. The National Advisory Council Web site is located at: http://www.fema.gov/national-advisory-council.

SUPPLEMENTARY INFORMATION: Notice of this meeting is given under the Federal Advisory Committee Act, 5 U.S.C. App. (Pub. L. 92-463). The National Advisory Council (NAC) advises the Administrator of the Federal Emergency Management Agency (FEMA) on all aspects of emergency management. The NAC incorporates State, local, and Tribal governments, and private sector partners' input in the development and revision of FEMA policies and strategies. FEMA's Office of the NAC serves as the focal point for all NAC coordination.

Agenda: The FEMA National Advisory Council will be meeting by teleconference to discuss the National Exercise Program (NEP) two-year cycle 2013-1014. The Council will discuss potential recommendations on the General Objectives for inclusion in the NEP two-year cycle. The Council will use the specific priorities from the Principal Objectives as guidelines to develop their recommendations for General Objectives. FEMA's National Exercise Division (NED) is responsible for providing exercise guidance and planning support to the Nation's emergency preparedness community. NED works through well-established and expanding partnerships within all levels of government, the private sector, and international communities. Exercise support is administered through the NEP. Information regarding the NEP, the Principal Objectives, and General Objectives can be found in the relative sections at: http://www.fema.gov/national-exercise-program.

The Federal Advisory Committee Act requires that notices of meetings of advisory committees be announced in the Federal Register 15 days prior to the meeting date. This notice of a teleconference of the NAC is published less than 15 days prior to the teleconference due to closure of Federal government offices during Hurricane Sandy. Since the NAC is meeting via teleconference, there will not be an undue burden on the public to arrange travel to attend this meeting. Notice of this meeting is also provided on the NAC's Web site at http://www.fema.gov/national-advisory-council.

W. Craig Fugate,
Administrator, Federal Emergency Management Agency.

[FR Doc. 2012-26964 Filed 11-2-12; 8:45 am]

BILLING CODE 9111-48-P